NUCLEAR REGULATORY COMMISSION

Sunshine Act; Meeting

Date: Weeks of June 30, July 7, 14, 28, August 4, 2003.

Place: Commissioners' Conference Room, 1155 Rockville Pike, Rockville, Maryland.

Status: Public and closed.

Matters to be Considered:

Week of June 30, 2003

Tuesday, July 1, 2003

10 a.m. Briefing on Status of Office of Nuclear Security and Incident Response (NSIR) Programs, Performance, and Plans (closed—Ex.1).

Week of July 7, 2003—Tentative

There are no meetings scheduled for the week of July 7, 2003.

Week of July 14, 2003—Tentative

There are no meetings scheduled for the week of July 14, 2003.

Week of July 21, 2003—Tentative

There are no meetings scheduled for the week of July 21.

Week of July 28, 2003—Tentative

There are no meetings scheduled for the week of July 28, 2003., 2003.

Week of August 4, 2003—Tentative

There are no meetings scheduled for the week of August 4, 2003.

*The schedule for Commission meetings is subject to change on short notice. To verify the status of meetings call (recording)—(301) 415-1292. Contact person for more information: David Louis Gamberoni (301) 415-1651.

* * * * *

The NRC Commission Meeting Schedule can be found on the Internet at: www.nrc.gov/what-we-do/policy-making/schedule.html.

* * * * *

This notice is distributed by mail to several hundred subscribers; if you no long wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 26, 2003.
D.L. Gamberoni,
Technical Coordinator, Office of the Secretary.

[FR Doc. 03-16692 Filed 6-27-03; 10:57 am]

BILLING CODE 7590-01-M